DEPARTMENT OF TRANSPORTATION

Federal Aviation Administration

14 CFR Part 39

[Docket No. FAA-2005-20595; Directorate Identifier 2004-NM-149-AD; Amendment 39-14208; AD 2005-16-03]

RIN 2120-AA64

Airworthiness Directives; Bombardier Model DHC-7-100, DHC-7-101, DHC-7-102, and DHC-7-103 Airplanes

AGENCY: Federal Aviation Administration (FAA), Department of Transportation (DOT).

ACTION: Final rule.

SUMMARY: The FAA is adopting a new airworthiness directive (AD) for certain Bombardier Model DHC-7-100, DHC-7-101, DHC-7-102, and DHC-7-103 airplanes. This AD requires revising the Airworthiness Limitations section of the Instructions of Continued Airworthiness to include a new, lower life limit for lower wing skins. This AD results from the discovery that, during the manufacture of the lower wing skins, score marks may have been accidentally inscribed around the edge of the lower wing skin doublers. We are issuing this AD to prevent fatigue cracks from developing at the score marks in the lower wing skins, which could result in the structural failure of the wing.

DATES: Effective September 6, 2005.

The Director of the Federal Register approved the incorporation by reference of a certain publication listed in the AD as of September 6, 2005.

ADDRESSES: You may examine the AD docket on the Internet at http://dms.dot.gov or in person at the Docket Management Facility, U.S. Department of Transportation, 400 Seventh Street, SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: David Lawson, Aerospace Engineer, Airframe and Propulsion Branch, ANE-171, FAA, New York Aircraft Certification Office, 1600 Stewart Avenue, suite 410, Westbury, New York 11590; telephone (516) 228-7327; fax (516) 794-5531.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Bombardier Model DHC-7-100, DHC-7-101, DHC-7-102, and DHC-7-103 airplanes. That NPRM was published in the Federal Register on March 15, 2005 (70 FR 12614). That NPRM proposed to require revising the Airworthiness Limitations section of the Instructions of Continued Airworthiness to include a new lower life limit for lower wing skins.

Comments

We provided the public the opportunity to participate in the development of this AD. We received no comments on the NPRM or on the determination of the cost to the public.

Explanation of Change to Applicability

We have revised the applicability of the NPRM to identify model designations as published in the most recent type certificate data sheet for the affected models.

Explanation of Correction to Paragraph (h)

We have revised paragraph (h) of this AD to include reference to paragraph (g). Reference to that paragraph was inadvertently omitted from the NPRM.

Conclusion

We have carefully reviewed the available data, and determined that air safety and the public interest require adopting the AD with the changes described previously. We have determined that these changes will neither increase the economic burden on any operator nor increase the scope of the AD.

Costs of Compliance

This AD will affect about 3 airplanes of U.S. registry. The revision of the Airworthiness Limitations section will take about 1 work hour per airplane, at an average labor rate of $65 per work hour. Based on these figures, the estimated cost of the AD for U.S. operators is $195, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-16-03 Bombardier, Inc. (Formerly de Havilland, Inc.): Amendment 39-14208. Docket No. FAA-2005-20595; Directorate Identifier 2004-NM-149-AD.

Effective Date

(a) This AD becomes effective September 6, 2005.

Affected ADs

(b) None.

Applicability

(c) This AD applies to Bombardier Model DHC-7-100, DHC-7-101, DHC-7-102, and DHC-7-103 airplanes, serial numbers 3 through 10 inclusive, 12 through 14 inclusive, and 16 through 27 inclusive; certificated in any category.

Note 1: This AD requires revision to a certain operator maintenance document to include a new replacement time. Compliance with this replacement time is required by 14 CFR 91.403(c). For airplanes that have been previously modified, altered, or repaired in the areas addressed by this replacement time, the operator may not be able to accomplish the replacement described in the revision. In this situation, to comply with 14 CFR 91.403(c), the operator must request approval for an alternative method of compliance according to paragraph (i) of this AD. The request should include a description of changes to the required replacement time that will ensure the continued damage tolerance of the affected structure. The FAA has provided guidance for this determination in Advisory Circular (AC) 25-1529.

Unsafe Condition

(d) This AD is prompted by the discovery that, during the manufacture of the lower wing skins, score marks may have been accidentally inscribed around the edge of the lower wing skin doublers. We are issuing this AD to prevent fatigue cracks from developing at the score marks in the lower wing skins, which could result in the structural failure of the wing.

Compliance

(e) You are responsible for having the actions required by this AD performed within the compliance times specified, unless the actions have already been done.

Revise the Airworthiness Limitations (AWL) Section—New Life Limit

(f) Within 30 days after the effective date of this AD, revise the AWL section of the Instructions for Continued Airworthiness to incorporate new life limits for the lower wing skins by incorporating Bombardier Temporary Revision (TR) 5-103, dated March 26, 2004, to the Bombardier Dash 7 Series 100 Maintenance Manual, PSM 1-7-2, into the AWL section.

(g) When the contents of Bombardier TR 5-103, dated March 26, 2004, have been included in the general revisions of the AWL section, the general revisions may be incorporated into the AWL section, and the TR may be removed from the AWL section.

(h) After the actions specified in paragraphs (f) and (g) of this AD have been accomplished, no alternative life limits may be approved for the lower wing skins, except as provided in paragraph (i) of this AD.

Alternative Methods of Compliance (AMOCs)

(i) The Manager, New York Aircraft Certification Office, FAA, has the authority to approve AMOCs for this AD, if requested in accordance with the procedures found in 14 CFR 39.19.

Related Information

(j) Canadian airworthiness directive CF-2004-12, dated June 28, 2004, also addresses the subject of this AD.

Material Incorporated by Reference

(k) You must use Bombardier Temporary Revision 5-103 to Chapter 5-10-11 of the Bombardier Dash 7 Series 100 Maintenance Manual, PSM 1-7-2, dated March 26, 2004, to perform the actions that are required by this AD, unless the AD specifies otherwise. The Director of the Federal Register approved the incorporation by reference of this document in accordance with 5 U.S.C. 552(a) and 1 CFR part 51. Contact Bombardier Regional Aircraft Division, 123 Garratt Boulevard, Downsview, Ontario M3K 1Y5, Canada, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 21, 2005.
Kevin M. Mullin,
Acting Manager, Transport Airplane Directorate, Aircraft Certification Service.

[FR Doc. 05-15012 Filed 8-1-05; 8:45 am]

BILLING CODE 4910-13-P